DEPARTMENT OF HEALTH AND HUMAN SERVICES

Food and Drug Administration

21 CFR Parts 10, 12, and 510

[Docket No. 99N-4957]

Removal of Designated Journals; Confirmation of Effective Date

AGENCY: Food and Drug Administration, HHS.

ACTION: Direct final rule; confirmation of effective date.

SUMMARY: The Food and Drug Administration (FDA) is confirming the effective date of April 24, 2000 for the final rule that appeared in the Federal Register of December 10, 1999 (64 FR 69188). The direct final rule amends the regulation that lists the veterinary and scientific journals available in FDA's library. The purpose of the list is to allow individuals to reference articles from listed journals in new animal drug application documents submitted to Dockets Management Branch, and objections and requests for hearing on a regulation or order instead of submitting a copy or reprint of the article. FDA is taking this action because this list of journals is outdated and because individuals rarely use the regulation. This document confirms the effective date of the direct final rule.

DATES: Effective date confirmed: April 24, 2000.

FOR FURTHER INFORMATION CONTACT: Gail L. Schmerfeld, Center for Veterinary Medicine (HFV-100), Food and Drug Administration, 7500 Standish Pl., Rockville, MD 20855, 301-827-0205.

SUPPLEMENTARY INFORMATION: In the Federal Register of December 10, 1999 (64 FR 69188), FDA solicited comments concerning the direct final rule for a 75-day period ending February 23, 2000. FDA stated that the effective date of the direct final rule would be on April 24, 2000, 60 days after the end of the comment period, unless any significant adverse comment was submitted to FDA during the comment period. FDA did not receive any significant adverse comments.

Therefore, under the Federal Food, Drug, and Cosmetic Act and under authority delegated to the Commissioner of Food and Drugs, the amendments issued thereby will go into effect on April 24, 2000.

Dated: March 24, 2000.
William K. Hubbard,
Senior Associate Commissioner for Policy, Planning, and Legislation.

[FR Doc. 00-7936 Filed 3-30-00; 8:45 am]

BILLING CODE 4160-01-F